DEPARTMENT OF HEALTH AND HUMAN SERVICES

Administration for Children and Families

Proposed Information Collection Activity; Administration and Oversight of the Unaccompanied Alien Children Program (OMB #0970-0547)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on revisions to an approved information collection. The request consists of several forms that allow the Unaccompanied Alien Children (UAC) Program to monitor care provider facility compliance with federal laws and regulations, legal agreements, and ORR policies and procedures; and perform other administrative tasks.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: ORR plans to revise six of the eight instruments currently approved under OMB #0970-0547. Four of the revised instruments will be incorporated into ORR's new case management system, UAC Path. The other two revised instruments are and will remain PDF instruments. In addition, ORR plans to add two new instruments to this collection, both of which will be incorporated into UAC Path. Finally, ORR plans to remove one currently approved instrument from this collection.

1. Care Provider Facility Tour Request (Form A-1A): This instrument is used by advocacy groups, faith-based organizations, researchers, government officials, and other stakeholders to request tours of ORR care provider facilities. After the request is received, ORR documents its decision and details regarding date and location of the tour, if applicable, and provides the completed form to the requester. No revisions are currently requested; ORR plans to continue use of this form as-is.

2. Notice to UAC for Flores Visits (Forms A-4 & A-4s): This instrument is used by care provider facilities to notify UAC of upcoming visits by Flores counsel (lawyers and volunteers from the organization that originally participated in the creation of the Flores Settlement Agreement) and allow UAC to add their name to a sign-up sheet if they are willing to speak with Flores counsel. ORR updated the Spanish translation of this PDF instrument.

3. Authorization for Release of Records (Form A-5): This instrument is used by attorneys, legal service providers, government agencies, and other stakeholders to request UAC case file records. In most cases, requesters are required to obtain the signature of the subject of the record request (UAC or their parent/legal guardian or sponsor) and a witness. ORR made the following revisions:

○ Added a section in which ORR-funded legal service providers are required to certify their representation of the child.

○ Added a separate area where sponsors may authorize the release of their records.

○ Updated the required supporting documentation for a representative of a federal/state government agency or the National Center for Missing and Exploited Children to further require that the requester specify the scope of their investigation and provide a case reference number.

○ Clarified in the instructions that ORR will not release any records that are clearly outside of the scope of a government agency's investigation absent a court-issued subpoena or order.

4. Notification of Concern (Form A-7): This instrument is used by home study and post-release service caseworkers, care provider case managers, and the ORR National Call Center to notify ORR of certain concerns that arise after a UAC is released from ORR custody. This is a new instrument that ORR plans to add to this collection.

5. Event (Form A-9): This instrument is used by ORR care provider programs to document high-level information about situations that must be reported to ORR. Creating an Event is the first step in creating any type of incident report (see forms A-10A to A-10C below), PLE Report (see form A-10D below) or Notification of Concern (see form A-7 above). After an Event is created, an incident report or Notification of Concern is created for each UAC involved in the incident and linked to the Event. For program-level events, one PLE Report is created and linked to the Event. Event information is visible in each individual report/notification report. This instrument was previously approved as part of ORR's various incident reports (Forms A-10A to A-10D). ORR is listing it separately, as a new instrument, to better align instruments in this collection with how data will be entered in UAC Path. Some fields that were previously entered in each incident report have been moved into this instrument so that they only need to be entered once. The form also contains several new fields that capture additional information about the location and timeframe of the event. Please note that internal form number A-9 was previously assigned to the Program-Level Event Report.

6. Emergency Significant Incident Report (SIR) and Addendum (Form A-10A): This instrument is used by ORR care provider programs to inform ORR of urgent situations in which there is an immediate threat to a child's safety and well-being that require instantaneous action. In some cases, an Emergency SIR Addendum may be required to provide additional information obtained after the initial report. ORR made the following revisions:

○ Revised the available options for the category and subcategory fields.

○ Added a question asking whether the incident is related to gang/cartel crimes, activities, or affiliation.

○ Added fields to capture additional detail on individuals involved in the incident, actions taken, and video footage.

○ Added fields to capture additional information related to reporting of incidents to child protective services, state licensing agencies, and local law enforcement.

○ Added a disposition field to indicate whether the incident is closed or if the incident is open and further action is required.

○ Updated functionality for the list of individuals who need to be notified of the incident so that it is auto-populated and notification emails can be sent from within the UAC Path system.

○ Updated internal form numbering so that reports and addendums are fall under the same form number.

7. Significant Incident Report (SIR) and Addendum (Form A-10B): This instrument is used by ORR care provider programs to inform ORR of situations that affect, but do not immediately threaten, the safety and well-being of a child. In some cases, an SIR Addendum may be required to provide additional information obtained after the initial report. ORR made the following revisions:

○ Revised the available options for the category and subcategory fields.

○ Added a question asking whether the incident is related to gang/cartel crimes, activities, or affiliation.

○ Added fields to capture additional detail on individuals involved in the incident, actions taken, and video footage.

○ Added fields to capture additional information related to reporting of incidents to child protective services, state licensing agencies, and local law enforcement.

○ Added a disposition field to indicate whether the incident is closed or if the incident is open and further action is required.

○ Updated functionality for the list of individuals who need to be notified of the incident so that it is auto-populated and notification emails can be sent from within the UAC Path system.

○ Updated internal form numbering so that reports and addendums are fall under the same form number.

8. Sexual Abuse Significant Incident Report (SA/SIR) and Addendum (Form A-10C): This instrument is used by ORR care provider programs to inform ORR of allegations of sexual harassment, sexual abuse, and inappropriate sexual behavior that occurred while the UAC was in ORR custody. In some cases, an SA/SIR Addendum may be required to provide additional information obtained after the initial report. ORR made the following revisions:

○ Revised the available options for the category and subcategory fields.

○ Added a question asking whether the incident is related to gang/cartel crimes, activities, or affiliation.

○ Added fields to capture additional detail on individuals involved in the incident, actions taken, and video footage.

○ Added fields to capture additional information related to reporting of incidents to child protective services, state licensing agencies, and local law enforcement.

○ Added a disposition field to indicate whether the incident is closed or if the incident is open and further action is required.

○ Updated functionality for the list of individuals who need to be notified of the incident so that it is auto-populated and notification emails can be sent from within the UAC Path system.

○ Updated internal form numbering so that reports and addendums are fall under the same form number.

9. Program-Level Event (PLE) Report and Addendum (Form A-10D): This instrument is used by ORR care provider programs to inform ORR of events that may affect the entire care provider facility, such as an active shooter or natural disaster. An updated PLE Report is required for events that occur over multiple days or if the situation changes regarding the event. ORR made the following revisions:

○ Revised the available options for the category and subcategory fields.

○ Added a question asking whether the incident is related to gang/cartel crimes, activities, or affiliation.

○ Added fields to capture additional detail on individuals involved in the incident, actions taken, and video footage.

○ Added fields to capture additional information related to reporting of incidents to child protective services, state licensing agencies, and local law enforcement.

○ Added a disposition field to indicate whether the incident is closed or if the incident is open and further action is required.

○ Updated functionality for the list of individuals who need to be notified of the incident so that it is auto-populated and notification emails can be sent from within the UAC Path system.

○ Updated internal form numbering so that reports and addendums are fall under the same form number.

10. Hotline Alert (Form A-12): ORR is discontinuing this instrument. In UAC Path, the ORR National Call Center will use the Notification of Concern instead of the Hotline Alert.

Respondents: ORR grantee and contractor staff; advocacy groups, faith-based organizations, researchers, and government officials; attorneys, legal service providers, child advocates, and government agencies; and other stakeholders.

Annual Burden Estimates
Instrument | Annual number of respondents | Annual number of responses per respondent | Average burden minutes per response | Annual total burden hours
Care Provider Facility Tour Request (Form A-1A) | 200 | 1 | 10 | 33
Notice to UAC for Flores Visits (Forms A-4 & A-4s) | 20 | 1 | 15 | 5
Authorization for Release of Records (Form A-5) | 4,000 | 1 | 15 | 1,000
Notification of Concern (Form A-7) | 60 | 75 | 15 | 1,125
Event (Form A-9) | 276 | 160 | 10 | 7,360
Emergency Significant Incident Report and Addendum (Form A-10A) | 216 | 14 | 60 | 3,024
Significant Incident Report and Addendum (Form A-10B) | 216 | 491 | 60 | 106,056
Sexual Abuse Significant Incident Report and Addendum (Form A-10C) | 216 | 47 | 60 | 10,152
Program Level Event (Form A-10D) | 216 | 7 | 60 | 1,512
Estimated Annual Burden Hours Total |  |  |  | 130,267

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2020-29276 Filed 1-5-21; 8:45 am]

BILLING CODE 4184-45-P